DEPARTMENT OF COMMERCE

National Oceanic and Atmospheric Administration

[RTID 0648-XD235]

Advisory Committee Open Session on Management Strategy Evaluation for North Atlantic Swordfish

AGENCY: National Marine Fisheries Service (NMFS), National Oceanic and Atmospheric Administration (NOAA), Commerce.

ACTION: Notice of meeting.

SUMMARY: NMFS is holding a public meeting via webinar session for the Advisory Committee to the U.S. Section to the International Commission for the Conservation of Atlantic Tunas (ICCAT) and all interested stakeholders to receive an update and provide input on the development of the management strategy evaluation (MSE) for North Atlantic swordfish.

DATES: A virtual meeting that is open to the public will be held by webinar session on August 24, 2023, from 3 p.m. to 5 p.m. EDT.

ADDRESSES: Please register to attend the meeting at: https://forms.gle/QbymT8n4mYm7SP3S9. Registration will close on August 22, 2023, at 5 p.m. EDT. Instructions for accessing the webinar session will be emailed to registered participants.

FOR FURTHER INFORMATION CONTACT: Bryan Keller, Office of International Affairs, Trade, and Commerce at (301) 427-7725 or Bryan.Keller@noaa.gov.

SUPPLEMENTARY INFORMATION: MSE is a process that allows fishery managers and stakeholders (e.g., industry, scientists, and non-governmental organizations) to assess how well different strategies achieve specified management objectives for a fishery. ICCAT expects to finalize its North Atlantic swordfish MSE in 2023 and anticipates adopting a management procedure in November 2023 to set the total allowable catch for 2024 and future years for the stock. NMFS, and the U.S. Government more broadly, engages in this MSE development, an important part of which involves considering stakeholder input throughout the process through various means, including consultation with the Advisory Committee to the U.S. Section to ICCAT. The United States is also participating in the development of the North Atlantic swordfish MSE through the active involvement of U.S. scientists in the scientific work carried out by ICCAT's Standing Committee on Research and Statistics (SCRS).

The August 24 meeting is intended to update U.S. stakeholders and solicit their input on the MSE approach being developed by ICCAT for North Atlantic swordfish. NMFS will provide information on the progress of the SCRS in developing initial candidate management procedures (CMPs) and testing them based on the initial input on management objectives and other relevant matters provided by ICCAT's Panel 4. CMPs illustrate tradeoffs associated with achieving identified management objectives related to stock status, stock safety, yield, and catch stability over time. CMP testing assists ICCAT in refining management objectives and narrowing the number of viable CMPs for possible adoption by the Commission. This open session Advisory Committee meeting is primarily informational in nature and is intended to increase the opportunity for stakeholder awareness and input on the North Atlantic swordfish MSE process. Discussions at the meeting will help inform U.S. scientists who are participating in the work of the SCRS as well as U.S. managers participating in relevant Commission-related meetings later in 2023 addressing the North Atlantic swordfish MSE.

Authority: 16 U.S.C. 971 et seq.; 16 U.S.C. 1801 et seq.

Dated: August 4, 2023.
Alexa Cole,
Director, Office of International Affairs, Trade, and Commerce, National Marine Fisheries Service.

[FR Doc. 2023-17075 Filed 8-8-23; 8:45 am]

BILLING CODE 3510-22-P